DEPARTMENT OF ENERGY

Federal Energy Regulatory Commission

[Docket No. EL01-19-000]

H.Q. Energy Services (U.S.), Inc. Complainant v. New York Independent System Operator, Inc. Respondent; Notice of Complaint

December 13, 2000.

Take notice that, on December 12, 2000, H.Q. Energy Services (U.S.), Inc. (HQUS) submitted for filing a Complaint against the New York Independent System Operator (NYISO), requesting that the Commission order the NYISO to restore the original market clearing prices for energy on May 8, 2000.

HQUS states that it has served a copy of the filing on the NYISO.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before January 2, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before January 2, 2001. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-32264 Filed 12-18-00; 8:45 am]

BILLING CODE 6717-01-M